DEPARTMENT OF ENERGY

Federal Energy Regulatory Commission

[Docket No. RP08-648-000]

Shell Energy North America (US), L.P.; Notice of Filing

December 5, 2008.

Take notice that on July 21, 2008, Shell Energy North America (US), L.P. (Shell) filed a request for clarification that its negotiated rate agreement with Tennessee Gas Pipeline Company (Tennessee), which was accepted in Docket No. RP96-312-144, qualifies for a regulatory right of first refusal. Shell asserts that, as a firm shipper currently paying the maximum tariff rate under a long term negotiated rate agreement, it should qualify for the regulatory right of first refusal established by Commission policy.

Shell filed its request for clarification in Docket Nos. RP96-312-144 and RM98-10. However, the Commission is re-docketing Shell's request as Docket No. RP08-648-000. The Commission is also re-docketing all subsequent pleadings relating to this matter in Docket No. RP08-648-000, and will treat the persons filing those pleadings as parties to this proceeding, without the need to file a motion to intervene.¹

¹ These include: (1) The July 30, 2008 pleading by Tennessee in Docket Nos. RP96-312-144 and RM98-10; (2) the August 5, 2008 pleading by Ocean State Power and Ocean State Power II (collectively, OSP) in Docket Nos. RP96-312-144, RP96-312-073, RP96-312-074, and RM98-10-000; (3) the August 13, 2008 pleading by Tennessee in Docket Nos. RP96-312-144, RP96-312-073, RP96-312-074, and RM98-10; (4) the August 20, 2008 pleading by the New England Local Distribution Companies in Docket Nos. RP96-312-144 and RM98-10-000; (5) the August 22, 2008 pleading by OSP in Docket Nos. RP96-312-144, RP96-312-073, RP96-312-074, and RM98-10-000; (6) the September 3, 2008 pleading by Tennessee in Docket Nos. RP96-312-144, RP96-312-073, RP96-312-074, and RM98-10; (7) the November 17, 2008 pleading by OSP in Docket Nos. RP96-312-144, RP96-312-073, RP96-312-074, and RM98-10-000; (8) the November 25, 2008 pleading by Shell in Docket Nos. RP96-312-144 and RM98-10-000; and (9) the November 25, 2008 pleading by the New England Local Distribution Companies in Docket Nos. RP96-312-144, RP96-312-073, RP96-312-074, and RM98-10-000.

Any other person desiring to intervene or to protest this filing must file in accordance with Rules 211 and 214 of the Commission's Rules of Practice and Procedure (18 CFR 385.211 and 385.214). Protests will be considered by the Commission in determining the appropriate action to be taken, but will not serve to make protestants parties to the proceeding. Anyone not already a party but wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in this proceeding are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Comment Date: 5 p.m. Eastern Time on Friday, December 12, 2008.

Kimberly D. Bose,
Secretary.

[FR Doc. E8-29355 Filed 12-10-08; 8:45 am]

BILLING CODE 6717-01-P